DEPARTMENT OF ENERGY

Federal Energy Regulatory Commission

[Docket No. CP08-441-000; Docket No. CP08-444-000]

CenterPoint Energy Gas Transmission Company; Texas Eastern Transmission, LP; Notice of Application

July 24, 2008.

Take notice that on July 17, 2008, CenterPoint Energy Gas Transmission Company (CEGT), 1111 Louisiana Street, Houston, Texas 77002-5231, filed in Docket No. CP08-441-000 an application pursuant to section 7(c) of the Natural Gas Act (NGA), and on July 21, 2008, Texas Eastern Transmission, LP (Texas Eastern), 5400 Westheimer Court, Houston, Texas 77056-5310, filed in Docket No. CP08-444-000 an application pursuant to section 7(b) of the NGA for an order granting a certificate of public convenience to authorize CEGT to acquire, by operating lease, 90,000 dekatherms per day (Dth/d) of firm capacity from Texas Eastern on its Sligo Lateral Line 11-G (Sligo Lateral) in Bossier and Red River Parishes, Louisiana, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202)502-8659.

CEGT and Texas Eastern state that the primary term of the Sligo Lease is five years, and the lease will remain in effect from year to year thereafter unless terminated by either party with at least 18 months prior notice and necessary approvals from the Commission. Texas Eastern asserts that the lease capacity will be created by new compression that CEGT intends to construct under its blanket construction certificate. Texas Eastern states that granting the authorizations requested in the application will not increase Texas Eastern's system design capacity or affect the capacity available for service on the Texas Eastern system, nor will it affect Texas Eastern's existing tariffs.

Any questions concerning this application may be directed to Lawrence O. Thomas, Director—Rates & Regulatory, CenterPoint Energy Gas Transmission Company, PO Box 21734, Shreveport, Louisiana 71151 at (318) 429-2804, or Garth Johnson, General Manager, Certificates & Reporting, Texas Eastern Transmission, LP, PO Box 1642, Houston, Texas 77251-1642 at (713) 627-5415.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: August 14, 2008.

Kimberly D. Bose,
Secretary.

[FR Doc. E8-17497 Filed 7-30-08; 8:45 am]

BILLING CODE 6717-01-P